FEDERAL COMMUNICATIONS COMMISSION

47 CFR Part 2

[GN Docket No. 18-122; DA 18-446]

Office of Engineering and Technology, International, and Wireless Telecommunications Bureaus Seek Comment for Report on the Feasibility of Allowing Commercial Wireless Services, Licensed or Unlicensed, To Use or Share Use of the Frequencies Between 3.7-4.2 GHz

AGENCY: Federal Communications Commission.

ACTION: Proposed rule.

SUMMARY: In this document, and pursuant to the Making Opportunities for Broadband Investment and Limiting Excessive and Needless Obstacles to Wireless Act (MOBILE NOW Act), the Office of Engineering and Technology and the International and Wireless Telecommunications Bureaus (Bureaus) seek comment for an upcoming Commission report that will address the feasibility of allowing commercial wireless services to use or share use of the 3.7-4.2 GHz spectrum band.

DATES: Comments are due on or before May 31, 2018. Reply comments are due on or before June 15, 2018.

ADDRESSES: To the extent commenters wish to submit materials in the current docket (GN Docket No. 18-122) that are substantially similar to materials filed in other potentially related Commission proceedings (such as GN Docket No. 17-183, RM-11778, and RM-11791), the Commission asks commenters to submit an abbreviated filing that incorporates by reference the relevant arguments from any previously filed material by identifying (a) the previously filed document (with the docket number of the proceeding in which it was filed and the date filed), and (b) the specific arguments in that previously filed document that the commenter is submitting for consideration in the current proceeding. You may submit comments, identified by [GN Docket No. 18-122], by any of the following methods:

Electronic Filers: Comments may be filed electronically using the internet by accessing the ECFS: https://www.fcc.gov/ecfs/filings. Filers should follow the instructions provided on the website for submitting comments. In completing the transmittal screen, filers should include their full name, U.S. Postal Service mailing address, and the applicable docket number, GN Docket No. 18-122.

Paper Filers: Parties who choose to file by paper must file an original and one copy of each filing. If more than one docket or rulemaking number appears in the captions of this proceeding, filers must submit two additional copies for each additional docket or rulemaking number. Filings in response to this document can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW, Room TW-A325, Washington, DC 20554. The filing hours are 8:00 a.m. to 7:00 p.m. Eastern Time. All hand deliveries must be held together with rubber bands or fasteners. Any envelopes and boxes must be disposed of before entering the building.

Commercial overnight mail (other than U.S. Postal Service Express Mail and Priority Mail) must be sent to 9050 Junction Drive, Annapolis Junction, MD 20701.

U.S. Postal Service first-class, Express, and Priority mail must be addressed to 445 12th Street SW, Washington, DC 20554.

People with Disabilities: To request materials in accessible formats for people with disabilities (braille, large print, electronic files, audio format), send an email to fcc504@fcc.gov or call the Consumer & Governmental Affairs Bureau at (202) 418-0530 (voice), (202) 418-0432 (TTY).

FOR FURTHER INFORMATION CONTACT: Ariel Diamond, (202) 418-2803, Ariel.Diamond@fcc.gov.

SUPPLEMENTARY INFORMATION: On March 23, 2018, Congress passed the FY 2018 omnibus spending bill into law, which includes the MOBILE NOW Act under Title VI of RAY BAUM'S Act.¹ Section 605(b) of the MOBILE NOW Act requires the Commission to submit a report (3.7-4.2 GHz Report), to appropriate committees of Congress ² and to the Secretary of Commerce no later than September 23, 2019, “evaluating the feasibility of allowing commercial wireless services, licensed or unlicensed, to use or share use of the frequencies between 3700 megahertz and 4200 megahertz.” ³

¹ See Section 601 of the Act. We note that the Act refers to the 3.7-4.2 GHz band as the frequencies between 3700 megahertz and 4200 megahertz.

² Section 602 of the Act defines the appropriate committees of Congress.

³ See Section 605(b) of the Act.

The Commission notes that there is currently no federal allocation for the 3.7-4.2 GHz band. Nonetheless, we seek comment on the following questions:

• How should we assess the operations and possible impacts of sharing on Federal and non-Federal users already operating in this band?

• How might sharing be accomplished, with licensed and/or unlicensed operations, without causing harmful interference to Federal and non-Federal users already operating in this band, and in which parts of the band would such sharing be feasible?

• What other considerations should the Commission take into account in preparing the 3.7-4.2 GHz Report?

The Act further provides that the report should include an assessment of the operations of Federal entities that operate Federal Government stations authorized to use the 3.7-4.2 GHz band.⁴ The Commission intends to consult with National Telecommunications and Information Administration (NTIA) and the heads of each affected Federal agency regarding the Federal entities, stations, and operations in the band, and the required issues and assessments. This document does not contain proposed information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

⁴ See Section 605(c) of the Act.

Paperwork Reduction Act (PRA)

This document does not contain proposed information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

Ex Parte Rules

This proceeding has been designated as a “permit-but-disclose” proceeding in accordance with the Commission's ex parte rules.⁵ Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b).

⁵ See 47 CFR 1.1200(a), 1.1206.

Federal Communications Commission.
John Schauble,
Deputy Chief, Broadband Division, Wireless Telecommunications Bureau.

[FR Doc. 2018-10787 Filed 5-18-18; 8:45 am]

BILLING CODE 6712-01-P